DEPARTMENT OF DEFENSE

Department of the Navy

Privacy Act of 1974; System of Records

AGENCY: Department of the Navy, DOD.

ACTION: Delete a records system.

SUMMARY: The Department of the Navy proposes to delete two systems of records notices in its inventory of record systems subject to the Privacy Act of 1974 (5 U.S.C. 552a), as amended.

DATES: The action will be effective on November 6, 2000 unless comments are received that would result in a contrary determination.

ADDRESSES: Send comments to the Department of the Navy, PA/FOIA Policy Branch, Chief of Naval Operations (N09B30), 2000 Navy Pentagon, Washington, DC 20350-2000.

FOR FURTHER INFORMATION CONTACT: Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to delete two systems of records notices in its inventory of record systems subject to the Privacy Act of 1974 (5 U.S.C. 552a), as amended. The deletions are not within the purview of subsection (r) of the Privacy Act of 1974 (5 U.S.C. 552a), as amended, which requires the submission of a new or altered system report.

N07220-7

SYSTEM NAME:

Travel Pay System (February 22, 1993, 58 Fr 10690).

REASON:

These records are now under the cognizance of the Defense Finance and Accounting Service. See DFAS system of records notice T7333, Travel Payment System.

N07431-1

SYSTEM NAME:

Savings Deposit (February 22, 1993, 58 FR 10690).

REASON:

These records are now under the cognizance of the Defense Finance and Accounting Service. See DFAS system of records notice T7280, Uniformed Services Savings Deposit Program (USSDP).

Dated: October 2, 2000.
L.M. Bynum,
Alternate OSD Federal Register Liaison Officer, Department of Defense.

[FR Doc. 00-25574 Filed 10-4-00; 8:45 am]

BILLING CODE 5001-10-M